DEPARTMENT OF COMMERCE

National Oceanic and Atmospheric Administration

Proposed Information Collection; Comment Request; User Engagement Survey for Water Resources Forecasts and Climate Information

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 24, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Edward Clark: (301) 427-9350 or edward.clark@noaa.gov.

SUPPLEMENTARY INFORMATION:

I. Abstract

This request is for extension of a currently approved information collection.

As part of the NOAA mission: “To understand and predict changes in Earth's environment and conserve and manage coastal and marine resources to meet our Nation's economic, social, and environmental needs”, the proposed survey will be part of a stakeholder engagement effort to more clearly define what those needs are. The proposed survey will be used to engage with and assess the science and forecasting needs of stakeholders in the water resources sector. The water resources sector includes agencies and companies operating reservoirs, and private and public interests in regulating rivers. The survey is designed to (1) assess the accessibility and utility of water and climate information and data, (2) assess participants' perceptions and knowledge about water and climate, and (3) evaluate user needs and the gaps in existing water and climate information. Participation in the survey will be entirely voluntary and will usually be in conjunction with workshops related to water resources and/or climate.

II. Method of Collection

Web-based, or paper if there is no Internet access.

III. Data

OMB Control Number: 0648-0645.

Form Number(s): None.

Type of Review: Regular submission (extension of a currently approved information collection).

Affected Public: Not for profit institutions; state, local, or tribal government; business or other for-profit organizations; federal government.

Estimated Number of Respondents: 90.

Estimated Time per Response: 30 minutes.

Estimated Total Annual Burden Hours: 45.

Estimated Total Annual Cost to Public: $100 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 16, 2015.
Glenna Mickelson,
Management Analyst, Office of the Chief Information Officer.

[FR Doc. 2015-01058 Filed 1-22-15; 8:45 am]

BILLING CODE 3510-KE-P